COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List services to be furnished by nonprofit agencies employing persons who are blind or have other severe disabilities, and deletes from the Procurement List commodities previously furnished by such agencies.

EFFECTIVE DATE: January 15, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On June 9, October 20 and October 27, 2000, the Committee for Purchase From People Who Are Blind or Severely Disabled published notices (65 FR 36663, 63057 and 64420) of proposed additions to and deletions from the Procurement List:

Additions

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Services

Administrative Services

General Services Administration, Public Building Service, Property Development Division, 230 S. Dearborn Street, Chicago, Illinois

Administrative Services

U.S. Department of Commerce, National Weather Service NOAA, National Reconditioning Center, Kansas City, Missouri,

Eyewear Prescription Service, VA Outpatient Clinic, Port Richey, Florida

General Records Management Support, Corpus Christi Army Depot, Corpus Christi, Texas

Grounds Maintenance, Fort McPherson, Fort McPherson, Georgia

Janitorial/Custodial, Ford House Office Building, Washington, DC

Medical Transcription, Federal Bureau of Prisons, Federal Medical Center, Lexington, Kentucky

Temporary Administrative General Support Services, National Institute of Health, Bethesda, Maryland

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities.

3. The action will result in authorizing small entities to furnish the commodities to the Government.

4. There are no known regulatory alternatives which would accomplish the objectives of the Javits-Wagner-O'Day Act (41 U.S.C. 46-48c) in connection with the commodities deleted from the Procurement List.

After consideration of the relevant matter presented, the Committee has determined that the commodities listed below are no longer suitable for procurement by the Federal Government under 41 U.S.C. 46-48 and 51 CFR 41-2.4. Accordingly, the following commodities are hereby deleted from the Procurement List:

Commodities

Arming Wire

1350-00-889-8165

Arming Wire Assembly

1325-01-155-9965

1325-01-264-5465

1325-00-947-6698

Cleaning Compound

7930-01-398-0945

Detergent, General Purpose

7930-01-393-6761

Enamel

8010-01-332-3739

Stepladder

5440-00-227-1593

5440-00-171-9836

5440-00-227-1594

5440-00-227-1596

5440-00-227-1595

5440-00-227-1592

Stepladder, Fiberglass

5440-01-415-1238

5440-01-415-1240

5440-01-415-1241

Louis R. Bartalot,
Deputy Director (Operations).

[FR Doc. 00-31987 Filed 12-14-00; 8:45 am]

BILLING CODE 6353-01-M